DEPARTMENT OF HOMELAND SECURITY

Federal Emergency Management Agency

44 CFR Part 67

[Docket ID FEMA-2012-0003]

Final Flood Elevation Determinations

AGENCY: Federal Emergency Management Agency, DHS.

ACTION: Final rule.

SUMMARY: Base (1% annual-chance) Flood Elevations (BFEs) and modified BFEs are made final for the communities listed below. The BFEs and modified BFEs are the basis for the floodplain management measures that each community is required either to adopt or to show evidence of being already in effect in order to qualify or remain qualified for participation in the National Flood Insurance Program (NFIP).

DATES: Effective date: The date of issuance of the Flood Insurance Rate Map (FIRM) showing BFEs and modified BFEs for each community. This date may be obtained by contacting the office where the maps are available for inspection as indicated in the table below.

ADDRESSES: The final BFEs for each community are available for inspection at the office of the Chief Executive Officer of each community. The respective addresses are listed in the table below.

FOR FURTHER INFORMATION CONTACT: Luis Rodriguez, Chief, Engineering Management Branch, Federal Insurance and Mitigation Administration, Federal Emergency Management Agency, 500 C Street SW., Washington, DC 20472, (202) 646-4064, or (email) Luis.Rodriguez3@fema.dhs.gov.

SUPPLEMENTARY INFORMATION: The Federal Emergency Management Agency (FEMA) makes the final determinations listed below for the modified BFEs for each community listed. These modified elevations have been published in newspapers of local circulation and ninety (90) days have elapsed since that publication. The Deputy Associate Administrator for Mitigation has resolved any appeals resulting from this notification.

This final rule is issued in accordance with section 110 of the Flood Disaster Protection Act of 1973, 42 U.S.C. 4104, and 44 CFR part 67. FEMA has developed criteria for floodplain management in floodprone areas in accordance with 44 CFR part 60.

Interested lessees and owners of real property are encouraged to review the proof Flood Insurance Study and FIRM available at the address cited below for each community. The BFEs and modified BFEs are made final in the communities listed below. Elevations at selected locations in each community are shown.

National Environmental Policy Act. This final rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This final rule is not a significant regulatory action under the criteria of section 3(f) of Executive Order 12866 of September 30, 1993, Regulatory Planning and Review, 58 FR 51735.

Executive Order 13132, Federalism. This final rule involves no policies that have federalism implications under Executive Order 13132.

Executive Order 12988, Civil Justice Reform. This final rule meets the applicable standards of Executive Order 12988.

List of Subjects in 44 CFR Part 67

Administrative practice and procedure, Flood insurance, Reporting and recordkeeping requirements.

Accordingly, 44 CFR part 67 is amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.11 [Amended]

2. The tables published under the authority of § 67.11 are amended as follows:

State | City/town/county | Source of flooding | Location | * Elevation in feet (NGVD) + Elevation in feet (NAVD) # Depth in feet above ground ‸ Elevation in meters (MSL) Modified
City of Mandeville, Louisiana
Docket No.: FEMA-B-7799
Louisiana | City of Mandeville | Bayou Chinchuba | At the Parc du Lac confluence | +12
|  |  | Approximately 700 feet upstream of the Parc du Lac confluence | +12
Louisiana | City of Mandeville | Lake Pontchartrain | Entire shoreline within community | +10-15
Louisiana | City of Mandeville | Parc du Lac | At the Bayou Chinchuba confluence | +12
|  |  | Approximately 2,775 feet upstream of the Bayou Chinchuba confluence | +12
* National Geodetic Vertical Datum.
+ North American Vertical Datum.
# Depth in feet above ground.
‸ Mean Sea Level, rounded to the nearest 0.1 meter.
ADDRESSES
City of Mandeville
Maps are available for inspection at 3101 East Causeway Approach, Mandeville, LA 70448.

Flooding source(s) | Location of referenced elevation | * Elevation in feet (NGVD) + Elevation in feet (NAVD) # Depth in feet above ground ‸ Elevation in meters (MSL) Modified | Communities affected
Santa Cruz County, California, and Incorporated Areas
Docket No.: FEMA-B-1178
Salsipuedes Creek | Approximately 0.7 mile upstream of State Route 129 | + 45 | City of Watsonville, Unincorporated Areas of Santa Cruz County.
| Approximately 1.5 miles upstream of State Route 129 | + 58
Struve Slough | At the upstream side of Harkins Slough Road | + 17 | City of Watsonville.
| Approximately 0.4 mile upstream of Pennsylvania Drive | + 58
Watsonville Slough | Approximately 1,460 feet downstream of Harkins Slough Road | + 26 | City of Watsonville.
| Approximately 1,430 feet upstream of Marin Street | + 59
* National Geodetic Vertical Datum.
+ North American Vertical Datum.
# Depth in feet above ground.
‸ Mean Sea Level, rounded to the nearest 0.1 meter.
ADDRESSES
City of Watsonville
Maps are available for inspection at the Community Development Department, 250 Main Street, Watsonville, CA 95076.
Unincorporated Areas of Santa Cruz County
Maps are available for inspection at the Santa Cruz County Planning Department, 701 Ocean Street, 4th Floor, Santa Cruz, CA 95060.
Yolo County, California, and Incorporated Areas
Docket No.: FEMA-B-1175
Cache Creek | Approximately 3,200 feet downstream of County Road 102 | + 54 | Unincorporated Areas of Yolo County.
| Approximately 1.4 miles downstream of County Road 94B | + 94
Cache Creek Left Bank Overflow | Approximately 1.9 miles east of the intersection of County Road 103 and County Road 20 | + 40 | Unincorporated Areas of Yolo County.
| Approximately 3,200 feet downstream of County Road 120 | + 54
Cache Creek Right Bank Overflow | Approximately 1.1 miles east of the intersection of County Road 24 and County Road 102 | + 37 | City of Woodland, Unincorporated Areas of Yolo County.
| Approximately 1,500 feet north of the intersection of County Road 96B and County Road 19B | + 93
* National Geodetic Vertical Datum.
+ North American Vertical Datum.
# Depth in feet above ground.
‸ Mean Sea Level, rounded to the nearest 0.1 meter.
ADDRESSES
City of Woodland
Maps are available for inspection at the Community Development Department, 520 Court Street, Woodland, CA 95695.
Unincorporated Areas of Yolo County
Maps are available for inspection at the Yolo County Department of Planning and Public Works, 292 West Beamer Street, Woodland, CA 95695.
Collier County, Florida, and Incorporated Areas
Docket No.: FEMA-B-1151
Gulf of Mexico | At Monroe County | + 6 | City of Everglades City, City of Marco Island, City of Naples, Unincorporated Areas of Collier County.
| At Lee County | + 16
Shallow Flooding | An area bounded by the Lee County boundary to the north, Immokalee Road to the south, Little Hickory Bay to the west, and I-75 to the east | + 9-14 | Unincorporated Areas of Collier County.
Shallow Flooding | An area bounded by I-75 to the north, 112th Street to the south, Collier Road to the west, and Patterson Road to the east | + 12 | Unincorporated Areas of Collier County.
Shallow Flooding | An area bounded by the Lee County boundary to the north, County Road 858 to the south, Everglades Road to the west, and County Road 858 to the east | + 16-39 | Seminole Tribe of Florida, Unincorporated Areas of Collier County.
Shallow Flooding | An area bounded by County Road 858 to the north, I-75 to the south, Everglades Road to the west, and State Route 29 to the east | + 11-21 | Unincorporated Areas of Collier County.
Shallow Flooding | An area bounded by Bluebill/Immokalee Road to the north, Vanderbilt Beach Road to the south, Vanderbilt Road to the west, and I-75 to the east | + 9-13 | Unincorporated Areas of Collier County.
Shallow Flooding | An area bounded by Vanderbilt Beach Road to the north, Pine Ridge Road to the south, Tamiami Trail to the west, and I-75 to the east | + 9-18 | Unincorporated Areas of Collier County.
Shallow Flooding | An area bounded by Pine Ridge Road to the north, Radio Road to the south, Tamiami Trail to the east, and I-75 and Collier Road to the west | + 8-18 | City of Naples, Unincorporated Areas of Collier County.
Shallow Flooding | An area bounded by Radio Road to the north, Tamiami Trail to the south, Tamiami Trail to the west, and Collier Road to the east | + 8-12 | Unincorporated Areas of Collier County.
Shallow Flooding | An area bounded by the Lee County boundary to the north, Immokalee Road to the south, I-75 to the east, and Quarry Road to the west | + 10-14 | Unincorporated Areas of Collier County.
Shallow Flooding | An area bounded by Immokalee Road to the north, I-75 to the south, I-75 to the east, and Collier Road to the west | + 10-15 | Unincorporated Areas of Collier County.
Shallow Flooding | An area bounded by the Lee County boundary to the north, Immokalee Road and Randall Road to the south, Quarry Road and the Lee County boundary to the west, and Everglades Road to the east | + 12-30 | Unincorporated Areas of Collier County.
Shallow Flooding | An area bounded by Immokalee Road and Randall Road to the north, Blackburn Road to the south, I-75 to the west, and Everglades Road to the east | + 11-15 | Unincorporated Areas of Collier County.
* National Geodetic Vertical Datum.
+ North American Vertical Datum.
# Depth in feet above ground.
‸ Mean Sea Level, rounded to the nearest 0.1 meter.
ADDRESSES
City of Everglades City
Maps are available for inspection at 102 Broadway Avenue, Everglades City, FL 34139.
City of Marco Island
Maps are available for inspection at 50 Bald Eagle Drive, Marco Island, FL 34145.
City of Naples
Maps are available for inspection at 735 8th Street South, Naples, FL 34102.
Seminole Tribe of Florida
Maps are available for inspection at 6300 Stirling Road, Hollywood, FL 33024.
Unincorporated Areas of Collier County
Maps are available for inspection at 3301 East Tamiami Trail, Building F, 1st Floor, Naples, FL 34112.
Vermilion County, Illinois, and Incorporated Areas
Docket No.: FEMA-B-1140
East Branch Lick Creek | Approximately 650 feet upstream of U.S. Route 136 | + 613 | City of Danville, Unincorporated Areas of Vermilion County.
| Approximately 350 feet downstream of Lynch Road | + 644
North Fork Vermilion River | Approximately 940 feet downstream of Williams Street/Hungry Hollow Road | + 543 | Unincorporated Areas of Vermilion County.
| Approximately 0.75 mile upstream of the water treatment plant dam | + 549
Stoney Creek | Just upstream of Winter Avenue | + 612 | Unincorporated Areas of Vermilion County.
| Approximately 0.5 mile upstream of Winter Avenue | + 615
Vermilion River | Approximately 0.75 mile downstream of I-74 | + 533 | Unincorporated Areas of Vermilion County.
| Approximately 0.85 mile upstream of the railroad crossing upstream of the confluence of the North Fork Vermilion River and parallel to H Avenue | + 542
* National Geodetic Vertical Datum.
+ North American Vertical Datum.
# Depth in feet above ground.
‸ Mean Sea Level, rounded to the nearest 0.1 meter.
ADDRESSES
City of Danville
Maps are available for inspection at City Hall, 17 West Main Street, Danville, IL 61832.
Unincorporated Areas of Vermilion County
Maps are available for inspection at the Vermilion County Courthouse, 6 North Vermilion Street, Danville, IL 61832.
Cerro Gordo County, Iowa, and Incorporated Areas
Docket No.: FEMA-B-1138
Chelsea Creek | At the confluence with Willow Creek | + 1118 | City of Mason City.
| Just downstream of Chicago, Milwaukee, St. Paul and Pacific Railroad | + 1134
Clear Creek | At the confluence with Willow Creek | + 1180 | City of Clear Lake.
| Just downstream of 40th Street | + 1192
Clear Lake | Entire shoreline | + 1228 | City of Clear Lake, City of Ventura, Unincorporated Areas of Cerro Gordo County.
Willow Creek | Just upstream of State Road 122 | + 1158 | City of Clear Lake, City of Mason City, Unincorporated Areas of Cerro Gordo County.
| Approximately 850 feet upstream of I-35 | + 1195
Winnebago River | Approximately 0.4 mile upstream of Chicago, Milwaukee, St. Paul and Pacific Railroad | + 1061 | City of Mason City, Unincorporated Areas of Cerro Gordo County.
| Approximately 1.6 miles upstream of 13th Street | + 1092
* National Geodetic Vertical Datum.
+ North American Vertical Datum.
# Depth in feet above ground.
‸ Mean Sea Level, rounded to the nearest 0.1 meter.
ADDRESSES
City of Clear Lake
Maps are available for inspection at 15 North 6th Street, Clear Lake, IA 50428.
City of Mason City
Maps are available for inspection at 10 1st Street Northwest, Mason City, IA 50401.
City of Ventura
Maps are available for inspection at 101 Sena Street, Ventura, IA 50482.
Unincorporated Areas of Cerro Gordo County
Maps are available for inspection at 220 North Washington Avenue, Mason City, IA 50401.
Chariton County, Missouri, and Incorporated Areas
Docket No.: FEMA-B-1175
Batts Creek (backwater effects from Missouri River) | From the Doxies Creek confluence to approximately 550 feet upstream of Batts Creek Road | + 631 | Unincorporated Areas of Chariton County.
Brush Creek (backwater effects from Missouri River) | From the Salt Creek confluence to approximately 675 feet downstream of Utz Road | + 648 | Unincorporated Areas of Chariton County.
Chariton River (backwater effects from Missouri River) | From approximately 1.3 miles upstream of State Highway VV to approximately 225 feet downstream of U.S. Route 24 | + 637 | Unincorporated Areas of Chariton County.
Doxies Creek (backwater effects from Missouri River) | From approximately 300 feet downstream of Doxie Avenue to the Howard County boundary | + 631 | Unincorporated Areas of Chariton County.
Grand River (backwater effects from Missouri River) | At the Missouri River confluence | + 645 | City of Brunswick, Unincorporated Areas of Chariton County.
| At the downstream side of ATSF Railroad Bridge | + 651
Grand River Tributary (backwater effects from Missouri River) | From approximately 1,450 feet downstream of Grand River Road to approximately 150 feet upstream of Grand River Road | + 649 | Unincorporated Areas of Chariton County.
Little Chariton River (backwater effects from Missouri River) | From approximately 0.65 mile downstream of French Road to the downstream side of Chapel Hill Road | + 632 | Unincorporated Areas of Chariton County.
Missouri River | At the Howard County boundary | + 626 | City of Brunswick, Unincorporated Areas of Chariton County, Village of Dalton.
| At the Carroll County boundary | + 645
Mussel Fork (backwater effects from Missouri River) | From the Chariton River confluence to approximately 375 feet downstream of Jackson Street | + 637 | City of Keytesville, Unincorporated Areas of Chariton County.
Palmer Creek (backwater effects from Missouri River) | From the Lake Creek confluence to approximately 1,375 feet upstream of Lewis Clark Road | + 644 | Unincorporated Areas of Chariton County.
Puzzle Creek (backwater effects from Missouri River) | From the Chariton River confluence to the upstream side of State Highway KK | + 637 | Unincorporated Areas of Chariton County.
Salt Creek (backwater effects from Missouri River) | From approximately 1.0 mile downstream of Ohio Road to approximately 825 feet downstream of State Highway M | + 649 | Unincorporated Areas of Chariton County.
Young Creek (backwater effects from Missouri River) | From approximately 1,950 feet downstream of Rockford Hills Avenue to approximately 1,550 feet upstream of Rockford Hills Avenue | + 636 | Unincorporated Areas of Chariton County.
Young Creek Tributary 7 (backwater effects from Missouri River) | From the Young Creek confluence to approximately 1,250 feet upstream of Asbury Road | + 636 | Unincorporated Areas of Chariton County.
* National Geodetic Vertical Datum.
+ North American Vertical Datum.
# Depth in feet above ground.
‸ Mean Sea Level, rounded to the nearest 0.1 meter.
ADDRESSES
City of Brunswick
Maps are available for inspection at City Hall, 115 East Broadway, Brunswick, MO 65236.
City of Keytesville
Maps are available for inspection at City Hall, 404 West Bridge Street, Keytesville, MO 65261.
Unincorporated Areas of Chariton County
Maps are available for inspection at the Chariton County Courthouse, 306 South Cherry Street, Keytesville, MO 65261.
Village of Dalton
Maps are available for inspection at the Chariton County Courthouse, 306 South Cherry Street, Keytesville, MO 65261.
Mercer County, Ohio, and Incorporated Areas
Docket No.: FEMA-B-1171
Beaver Creek (Lower) | Approximately 1,400 feet downstream of Meyer Road | + 861 | City of Celina.
| At the downstream side of the Grand Lake Dam | + 861
Beaver Creek (Upper) | Approximately 850 feet downstream of State Route 219 | + 873 | Unincorporated Areas of Mercer County, Village of Montezuma.
| At the downstream side of Casselia Montezuma Road | + 876
Grand Lake Saint Mary's | Entire shoreline within community | + 872 | City of Celina.
Saint Mary's River | At the Van Wert County boundary | + 797 | Unincorporated Areas of Mercer County, Village of Mendon, Village of Rockford.
| At the Auglaize Bounty boundary | + 814
Wabash River | Approximately 0.72 mile downstream of State Route 49 | + 922 | Unincorporated Areas of Mercer County, Village of Fort Recovery.
| Approximately 0.88 mile upstream of North 1st Street | + 928
* National Geodetic Vertical Datum.
+ North American Vertical Datum.
# Depth in feet above ground.
‸ Mean Sea Level, rounded to the nearest 0.1 meter.
ADDRESSES
City of Celina
Maps are available for inspection at City Hall, 426 West Market Street, Celina, OH 45822.
Unincorporated Areas of Mercer County
Maps are available for inspection at the Mercer County Central Service Building, 220 West Livingston Street, Room A201, Celina, OH 45822.
Village of Fort Recovery
Maps are available for inspection at the Village Hall, 201 South Main Street, Fort Recovery, OH 45846.
Village of Mendon
Maps are available for inspection at the Village Hall, 102 South Main Street, Mendon, OH 45862.
Village of Montezuma
Maps are available for inspection at the Village Hall, 69 West Main Street, Montezuma, OH 45866.
Village of Rockford
Maps are available for inspection at the Village Hall, 151 East Columbia Street, Rockford, OH 45882.
Brazos County, Texas, and Incorporated Areas
Docket No.: FEMA-B-1085
Bee Creek Tributary B | Approximately 1,700 feet downstream of Christine Lane | + 286 | City of College Station.
| Just downstream of Southwest Parkway | + 292
Lick Creek | Approximately 1,000 feet downstream of Mission Hills Drive | + 216 | City of College Station.
| Approximately 1.0 mile upstream of William D. Fitch Parkway | + 253
South Fork of Turkey Creek | At the confluence with Turkey Creek | + 262 | City of Bryan.
| Approximately 650 feet downstream of FM 2818 | + 282
Turkey Creek | Approximately 2 miles downstream from Jones Road | + 226 | City of Bryan, Unincorporated Areas of Brazos County.
| Just downstream of FM 1688 | + 333
Turkey Creek Tributary B | At the confluence with Turkey Creek | + 250 | City of Bryan.
| Approximately 0.6 mile upstream of the confluence with Turkey Creek Tributary B1 | + 292
Turkey Creek Tributary B1 | At the confluence with Turkey Creek Tributary B | + 268 | City of Bryan.
| Approximately 0.5 mile upstream of the confluence with Turkey Creek Tributary B | + 290
Turkey Creek Tributary C | At the confluence with Turkey Creek | + 240 | City of Bryan.
| Approximately 0.5 mile upstream of Villa Maria Road | + 260
Turkey Creek Tributary D | At the confluence with Turkey Creek | + 239 | City of Bryan.
| Just downstream of Traditions Drive | + 273
Turkey Creek Tributary D1 | At the confluence with Turkey Creek Tributary D | + 252 | City of Bryan.
| Approximately 1,950 feet upstream of the confluence with Turkey Creek Tributary D | + 276
Unnamed Tributary to Bee Creek Tributary B | At the confluence with Bee Creek Tributary B | + 291 | City of College Station.
| Approximately 613 feet upstream of the confluence with Bee Creek Tributary B | + 293
Unnamed Tributary to White Creek | Approximately 573 feet upstream of the confluence with Unnamed Tributary to White Creek Tributary 3 | + 277 | City of College Station.
| Approximately 1,800 feet downstream of the confluence with White Creek Tributary 1 | + 302
Unnamed Tributary to White Creek Tributary 1 | At the confluence with Unnamed Tributary to White Creek | + 289 | City of College Station.
| Approximately 1,180 feet upstream of the confluence with Unnamed Tributary to White Creek | + 300
Unnamed Tributary to White Creek Tributary 2 | At the confluence with Unnamed Tributary to White Creek | + 295 | City of College Station.
| Approximately 600 feet upstream of FM 2818 | + 308
Unnamed Tributary to White Creek Tributary 3 | At the confluence with Unnamed Tributary to White Creek | + 300 | City of College Station.
| Approximately 280 feet upstream of the confluence with Unnamed Tributary to White Creek | + 303
Wickson Creek Tributary 23 | At the confluence with Wickson Creek | + 267 | Unincorporated Areas of Brazos County.
| Approximately 284 feet downstream of Old Reliance Road | + 268
* National Geodetic Vertical Datum.
+ North American Vertical Datum.
# Depth in feet above ground.
‸ Mean Sea Level, rounded to the nearest 0.1 meter.
ADDRESSES
City of Bryan
Maps are available for inspection at the Engineering Services Department, 300 South Texas Avenue, 1st Floor, Bryan, TX 77803.
City of College Station
Maps are available for inspection at the Development Engineering Division, 1101 Texas Avenue, College Station, TX 77842.
Unincorporated Areas of Brazos County
Maps are available for inspection at Brazos County Road and Bridge Department, 2617 Highway 21 West, Bryan, TX 77803.
Prince George County, Virginia, and Incorporated Areas
Docket No.: FEMA-B-1185
Harrison Creek | Approximately 0.39 mile downstream of Puddledock Road | + 11 | Unincorporated Areas of Prince George County.
| Approximately 1,405 feet upstream of Puddledock Road | + 29
* National Geodetic Vertical Datum.
+ North American Vertical Datum.
# Depth in feet above ground.
‸ Mean Sea Level, rounded to the nearest 0.1 meter.
ADDRESSES
Unincorporated Areas of Prince George County
Maps are available for inspection at the Prince George County Planning Department, 6602 Courts Drive, Prince George, VA 23875.

(Catalog of Federal Domestic Assistance No. 97.022, “Flood Insurance.”)

Dated: March 29, 2012.
Sandra K. Knight,
Deputy Associate Administrator for Mitigation, Department of Homeland Security, Federal Emergency Management Agency.

[FR Doc. 2012-8612 Filed 4-9-12; 8:45 am]

BILLING CODE 9110-12-P